DEPARTMENT OF HEALTH AND HUMAN SERVICES

Administration for Community Living

Agency Information Collection Activities; Proposed Collection; Comment Request; Certification of Maintenance of Effort for Title III and Certification of Long Term Care Ombudsman Program Expenditures, OMB# 0985-0009

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Revision and solicits comments on the information collection requirements related to Certification of Maintenance of Effort for Title III and Certification of Long Term Care Ombudsman Program Expenditures.

DATES: Comments on the collection of information must be submitted electronically by 11:59 p.m. (EST) or postmarked by October 19, 2020.

ADDRESSES: Submit electronic comments on the collection of information to: Alice Kelsey Submit written comments on the collection of information to Administration for Community Living, Washington, DC 20201, Attention: Alice Kelsey.

FOR FURTHER INFORMATION CONTACT: Alice Kelsey, Administration for Community Living, Washington, DC 20201, (202) 795-7342 Alice.Kelsey@acl.hhs.gov.

SUPPLEMENTARY INFORMATION: Under the PRA (44 U.S.C. 3501-3520), Federal agencies must obtain approval from the Office of Management and Budget (OMB) for each collection of information they conduct or sponsor. “Collection of information” is defined in the PRA and includes agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Certification of Maintenance of Effort under Title III and Certification of Long-Term Care Ombudsman (LTCO) Program Expenditures provide statutorily required information regarding each state's contribution to programs funded under the Older Americans Act and compliance with legislative requirements, pertinent Federal regulations, and other applicable instructions and guidelines issued by ACL. This information will be used for Federal oversight of Title III Programs and Long Term Care Ombudsman Program expenditures.

The proposed data collection tools are located on the ACL website, please visit for review and comment on this information collection. https://www.acl.gov/about-acl/public-input.

Estimated Program Burden

ACL estimates the burden associated with this collection of information as follows: 56 State Agencies on Aging respond annually, and it takes each agency an average of one half (.5) hour per State agency per year to complete each form for a total of twenty-eight hours for all state agencies annually. The half hour estimate is based on prior years' experience with States in completing these forms.

Respondent/data collection activity | Number of respondents | Responses per respondent | Hours per response | Annual burden hours
Certification on Maintenance of Effort under Title III | 56 | 1 | .5 | 28
Certification of Long-Term Care Ombudsman Program Expenditures | 56 | 1 | .5 | 28
Total | 112 | 2 | 1 | 56

Dated: August 13, 2020.
Lance Robertson,
ACL Administrator and Assistant Secretary for Aging.

[FR Doc. 2020-18111 Filed 8-18-20; 8:45 am]

BILLING CODE 4154-01-P